DEPARTMENT OF COMMERCE

International Trade Administration

[C-427-819]

Low Enriched Uranium from France: Extension of Time Limit for Final Results of Countervailing Duty Administrative Review

AGENCY: Import Administration, International Trade Administration, Department of Commerce.

EFFECTIVE DATE: May 2, 2006.

FOR FURTHER INFORMATION CONTACT: Kristen Johnson, AD/CVD Operations, Office 3, Import Administration, International Trade Administration, U.S. Department of Commerce, 14th Street and Constitution Avenue NW., Washington, DC 20230; telephone: (202) 482-4793.

SUPPLEMENTARY INFORMATION:

Background

The Department of Commerce (“the Department”) published in the Federal Register a countervailing duty (“CVD”) order on low enriched uranium from France on February 13, 2002. See Amended Final Determination and Notice of Countervailing Duty Order: Low Enriched Uranium from France, 67 FR 6689 (February 13, 2002). On March 23, 2005, the Department initiated an administrative review of the CVD order for the period January 1, 2004, through December 31, 2004. See Initiation of Antidumping and Countervailing Duty Administrative Reviews and Requests for Revocation in Part, 70 FR 14643 (March 23, 2005). The respondent in this administrative review is Eurodif S.A./Compagnie Generale Des Matieres Nucleaires. On February 15, 2006, the Department published in the Federal Register its preliminary results. See Notice of Preliminary Results of Countervailing Duty Administrative Review: Low Enriched Uranium from France, 71 FR 7924 (February 15, 2006). The final results are currently due no later than June 15, 2006.

Extension of Time Limit for Final Results of Review

Section 751(a)(3)(A) of the Tariff Act of 1930, as amended (“the Act”), requires the Department to issue final results in an administrative review within 120 days after the date on which the preliminary results were published. However, if it is not practicable to complete the final results of review within this time period, section 751(a)(3)(A) of the Act allows the Department to extend the time limit for the final results to a maximum of 180 days.

Given the complexity of issues raised in the case briefs submitted by interested parties, we find that it is not practicable for the Department to complete the final results of the administrative review within the 120-day statutory time frame. Therefore, the Department is fully extending the time limits for completion of the final results until August 14, 2006.

This notice is issued and published in accordance with section 751(a)(3)(A) of the Act.

Dated: April 26, 2006.
Stephen J. Claeys,
Deputy Assistant Secretary for Import Administration.

[FR Doc. E6-6625 Filed 5-1-06; 8:45 am]

Billing Code: 3510-DS-S